DEPARTMENT OF DEFENSE

Office of the Secretary

[Transmittal No. 19-60]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-60 with attached Policy Justification.

Dated: June 24, 2020.
Aaron T. Siegel,
Alternate OSD Federal Register Liaison Officer, Department of Defense.

BILLING CODE 5001-06-P

BILLING CODE 5001-06-C

Transmittal No. 19-60

Notice of Proposed Issuance of Letter of Offer Pursuant to Section 36(b)(1) of the Arms Export Control Act, as amended

(i) Prospective Purchaser: Government of the United Arab Emirates

(ii) Total Estimated Value:

Major Defense Equipment * | $ 0 million
Other | $150 million
Total | $150 million

(iii) Description and Quantity or Quantities of Articles or Services under Consideration for Purchase:

Major Defense Equipment (MDE):

None

Non-MDE:

Foreign Military Sales Order (FMSO) II to provide funds for blanket order requisitions under a Cooperative Logistics Supply Support Agreement (CLSSA) for common spares/repair parts to support the United Arab Emirates' fleet of AH-64 Apache, UH-60 Black Hawk, and CH-47 Chinook aircraft, additional support; and other related elements of logistics and program support.

(iv) Military Department: Army (AE-B-KRJ)

(v) Prior Related Cases, if any: TC-B-KVN, AE-B-KAQ, AE-B-KRF, AE-B-KRH

(vi) Sales Commission, Fee, etc., Paid, Offered, or Agreed to be Paid: None

(vii) Sensitivity of Technology Contained in the Defense Article or Defense Services Proposed to be Sold: None

(viii) Date Report Delivered to Congress: April 23, 2020

* As defined in Section 47(6) of the Arms Export Control Act.

POLICY JUSTIFICATION

United Arab Emirates (UAE)—Foreign Military Sales Order (FMSO) II Case

The Government of the United Arab Emirates has requested a Foreign Military Sales Order (FMSO) II to provide funds for blanket order requisitions under a Cooperative Logistics Supply Support Agreement (CLSSA) for common spares/repair parts to support the United Arab Emirates' fleet of AH-64 Apache, UH-60 Black Hawk, and CH-47 Chinook aircraft, additional support; and other related elements of logistics and program support. The estimated cost is $150 million.

This proposed sale will support the foreign policy and national security of the United States by helping to improve the security of an important partner in the region. This sale is consistent with U.S. initiatives to provide key partners in the region with modern systems that will enhance interoperability with U.S. forces and increase security.

The proposed sale will allow the UAE Joint Aviation Command to continue to purchase needed spare/repair parts to maintain UAE's fleet of AH-64 Apache, UH-60 Black Hawk, and CH-47 Chinook helicopters as part of the Cooperative Logistics Supply Support Agreement (CLSSA) program. The UAE will have no difficulty absorbing these defense articles and services into its armed forces.

The proposed sale will not alter the basic military balance in the region.

There are no principal contractors involved with this potential sale. There are no known offset agreements in connection with this potential sale.

Implementation of this sale will not require the assignment of any U.S. Government or contractor representatives to the UAE.

There will be no adverse impact on U.S. defense readiness as a result of this proposed sale.

[FR Doc. 2020-14063 Filed 6-29-20; 8:45 am]

BILLING CODE 5001-06-P